DEPARTMENT OF HOMELAND SECURITY

Coast Guard

33 CFR Part 117

[CGD01-07-035]

Drawbridge Operation Regulations; Chelsea River, Chelsea and East Boston, MA

AGENCY: Coast Guard, DHS.

ACTION: Notice of temporary deviation from regulations.

SUMMARY: The Commander, First Coast Guard District, has issued a temporary deviation from the regulation governing the operation of the P.J. McArdle Bridge across the Chelsea River at mile 0.3, between Chelsea and East Boston, Massachusetts. Under this temporary deviation, the bridge may remain in the closed position from 8 a.m. to 5 p.m., on June 16, 2007. Vessels that can pass under the draw without a bridge opening may do so at all times. This deviation is necessary to facilitate the annual Chelsea River Revel and 5K Road Race.

DATES: This deviation is effective on June 16, 2007.

ADDRESSES: Materials referred to in this document are available for inspection or copying at the First Coast Guard District, Bridge Branch Office, 408 Atlantic Avenue, Boston, Massachusetts, 02110, between 7 a.m. and 3 p.m., Monday through Friday, except Federal holidays. The telephone number is (617) 223-8364. The First Coast Guard District Bridge Branch Office maintains the public docket for this temporary deviation.

FOR FURTHER INFORMATION CONTACT: John McDonald, Project Officer, First Coast Guard District, at (617) 223-8364.

SUPPLEMENTARY INFORMATION: The P.J. McArdle Bridge, across the Chelsea River at mile 0.3, between Chelsea and East Boston, Massachusetts, has a vertical clearance in the closed position of 21 feet at mean high water and 30 feet at mean low water. The existing drawbridge operation regulations are listed at 33 CFR 117.593.

The owner of the bridge, the City of Boston, requested a temporary deviation to facilitate the annual Chelsea River Revel and 5K Road Race. The bridge will not be able to open while this scheduled event is underway.

Under this temporary deviation, the P.J. McArdle Bridge need not open for the passage of vessel traffic between 8 a.m. and 5 p.m. on June 16, 2007. Vessels that can pass under the bridge without a bridge opening may do so at all times.

This deviation from the operating regulations is authorized under 33 CFR 117.35.

Dated: April 5, 2007.
Gary Kassof,
Bridge Program Manager, First Coast Guard District.

[FR Doc. E7-7152 Filed 4-13-07; 8:45 am]

BILLING CODE 4910-15-P